SURFACE TRANSPORTATION BOARD

[Docket No. EP 290 (Sub-No. 5) (2021-4)]

Quarterly Rail Cost Adjustment Factor

AGENCY: Surface Transportation Board.

ACTION: Approval of rail cost adjustment factor.

SUMMARY: The Board approves the fourth quarter 2021 Rail Cost Adjustment Factor (RCAF) and cost index filed by the Association of American Railroads. The fourth quarter 2021 RCAF (Unadjusted) is 1.139. The fourth quarter 2021 RCAF (Adjusted) is 0.473. The fourth quarter 2021 RCAF-5 is 0.446.

DATES: Applicability Date: October 1, 2021.

FOR FURTHER INFORMATION CONTACT: Pedro Ramirez at (202) 245-0333. Assistance for the hearing impaired is available through the Federal Relay Service at (800) 877-8339.

SUPPLEMENTARY INFORMATION: Additional information is contained in the Board's decision, which is available at www.stb.gov.

Decided: September 15, 2021.
By the Board, Board Members Begeman, Fuchs, Oberman, Primus, and Schultz.
Aretha Laws-Byrum,
Clearance Clerk.

[FR Doc. 2021-20353 Filed 9-20-21; 8:45 am]

BILLING CODE 4915-01-P